DEPARTMENT OF THE INTERIOR

National Park Service

General Management Plan, Draft Environmental Impact Statement, Great Sand Dunes National Park and Preserve, CO

AGENCY: National Park Service, Department of the Interior.

ACTION: Notice of Availability of the Draft Environmental Impact Statement for the General Management Plan and Wilderness Study, Great Sand Dunes National Park and Preserve.

SUMMARY: Pursuant to the National Environmental Policy Act of 1969, 42 U.S.C. 4332(2)(C), the National Park Service announces the availability of a Draft Environmental Impact Statement for the General Management Plan and Wilderness Study for Great Sand Dunes National Park and Preserve, Colorado.

DATES: The National Park Service will accept comments on the Draft Environmental Impact Statement from the public through June 26, 2006. Public meetings will be scheduled during the comment period, including hearings on the wilderness study, and dates and times will be posted in a newsletter, on the planning Web site, and by contacting the park.

ADDRESSES: Information will be available for public review and comment online at http://parkplanning.nps.gov, in the office of the Superintendent, Steve Chaney, Great Sand Dunes National Monument and Preserve, 11500 Hwy. 150, Mosca, CO 81146-9798; Tel: (719) 378-6300; and at the following locations: Southern Peaks Public Library, 423 4th Street, Alamosa, Colorado; West Custer County Library, 209 Main Street, Westcliffe, Colorado; Crestone/Baca Library, Crestone, Colorado; Great Sand Dunes National Park and Preserve Visitor Center.

FOR FURTHER INFORMATION CONTACT: Superintendent Steve Chaney, Great Sand Dunes National Monument and Preserve, 11500 Hwy. 150, Mosca, CO 81146-9798; Tel: (719) 378-6300; FAX: (719) 378-6311; e-mail: steve_chaney@nps.gov.

SUPPLEMENTARY INFORMATION: If you wish to comment, you may submit your comments by any one of several methods. You may mail comments to Suzy Stutzman, National Park Service, Intermountain Region, P.O. Box 25287, Denver, CO 80225. You may also comment via the Internet at http://parkplanning.nps.gov. If you do not receive a confirmation from the system that we have received your Internet message, contact us directly at Suzy Stutzman, (303) 987-6671. Finally, you may hand-deliver comments to National Park Service, Intermountain Region, Room 186, Lakewood, CO. It is the practice of the NPS to make all comments, including names and addresses of respondents who provide that information, available for public review following the conclusion of the [NEPA] process. Individuals may request that the NPS withhold their name and/or address from public disclosure. If you wish to do this, you must state this prominently at the beginning of your comment. Commentators using the Web site can make such a request by checking the box “keep my contact information private.” NPS will honor such requests to the extent allowable by law, but you should be aware that NPS may still be required to disclose your name and address pursuant to the Freedom of Information Act.

Dated: March 15, 2006.
William E. Wellman,
Acting Director, Intermountain Region, National Park Service.

[FR Doc. E6-6152 Filed 4-24-06; 8:45 am]

BILLING CODE 4312-CL-P